DEPARTMENT OF ENERGY

Federal Energy Regulatory Commission

[Docket No. RP99-301-060]

ANR Storage Company; Notice of Material Deviation Filing

November 6, 2002.

Take notice that on November 1, 2002, ANR Pipeline Company (ANR), tendered for filing a Lease Dedication Agreement entered into with Minerals Management Service (MMS). ANR seeks confidential treatment of the Lease Dedication Agreement.

To the extent Commission approval of the Lease Dedication Agreement is required under the circumstances, ANR respectfully requests that the Commission accept and approve the MMS Lease Dedication Agreement to be effective November 1, 2002.

Any person desiring to protest said filing should file a protest with the Federal Energy Regulatory Commission, 888 First Street, NE., Washington, DC 20426, in accordance with section 385.211 of the Commission's Rules and Regulations. All such protests must be filed on or before November 13, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. 02-28797 Filed 11-12-02; 8:45 am]

BILLING CODE 6717-01-P